ENVIRONMENTAL PROTECTION AGENCY

[ER-FRL-6630-9]

Environmental Impact Statements; Notice of Availability

Responsible Agency: Office of Federal Activities, General Information (202) 564-7167 or http://www.epa.gov/compliance/nepa/.

Weekly receipt of Environmental Impact Statements

Filed July 01, 2002, through July 05, 2002

Pursuant to 40 CFR 1506.9.

EIS No. 020285, DRAFT SUPPLEMENT, FHW, CA, I-880/CA-92 Interchange Reconstruction, I-880 from Winton Avenue to Tennyson Road and CA-92 from Hesperian Boulevard to Santa Clara Street, Updated Information, Funding, City of Hayward, Alameda County, CA, Comment Period Ends: August 26, 2002, Contact: Maiser Khaled (916) 498-5020.

EIS No. 020286, DRAFT EIS, AFS, CA, Red Star Restoration Project, Removal of Fire-Killed Trees, Fuels Reduction, Road Reconstruction and Decommissioning, and Associated Restoration, Tahoe National Forest, Foresthill Ranger District, Placer County, CA, Comment Period Ends: August 26, 2002, Contact: Karen Jones (530) 478-6254. This document is available on the Internet at: http://www.r5.fs.fed.us/tahoe/.

EIS No. 020287, FINAL SUPPLEMENT, FHW, HI, Honoapiilani Highway/FAP Route 30 Improvement, New Information Concerning Construction of Modifications to Honoapiilani Highway from Puamana to Honokowai, COE Permits and NPDES Permit Issuance and Funding, Lahaina District, Maui County, HI, Wait Period Ends: August 12, 2002, Contact: Domingo Galicinao (808) 541-2700.

EIS No. 020288, DRAFT EIS, FHW, CA, Willits Freeway Bypass Project, Construction and Operation of a New Segment of U.S. 101, COE Section 404 Permit, NPDES Permit and Endangered Species Act (Incidental Take Permit), City of Willits, Mendocino County, CA, Comment Period Ends: August 26, 2002, Contact: Maiser Khaled (916) 498-5020.

EIS No. 020289, FINAL EIS, RUS, AK, Southern Intertie Project, Constructing and Operating a new 138kV Transmission Line between the Kenai Peninsula and Anchorage, Right-of-Way Permit, Special-Use Permit, COE Section 10 and 404 Permit, Kenai Peninsula to Anchorage, AK, Wait Period Ends: August 12, 2002, Contact: Laurence R. Wolfe (202) 720-1784.

EIS No. 020290, DRAFT SUPPLEMENT, COE, OR, Columbia River Channel Improvement Project, Additional Information, To Update the Disposal Plan and to Update the Project Economics, Columbia and Lower Willamette River Federal Navigation Channel, OR, Comment Period Ends: September 03, 2002, Contact: Laura Hicks (503) 808-4705.

EIS No. 020291, DRAFT EIS, FTA, VA, Dulles Corridor Rapid Transit Project, To Provide High-Quality and High-Capacity Transit Service in Dulles Corridor, West Falls Church Metrorail Station in Fairfax County to the Vicinity of Route 772 in Loudoun County, VA, Comment Period Ends: August 28, 2002, Contact: John Dittmeier (703) 247-6500.

EIS No. 020292, FINAL EIS, FHW, TN, KY, Corridor 18/Interstate 69 Proposed Improvements from the U.S. 412/U.S. 51 Interchange to the U.S. 51 Fulton Bypass/Purchase Parkway Interchange, Dyer and Obion Counties, TN and Fulton County, KY, Wait Period Ends: August 12, 2002, Contact: Charles Boyd (615) 781-5770.

EIS No. 020293, FINAL EIS, FHW, MO, MO-19, MO-107 and U.S. 54 Improvements and Extension, U.S. 61 near Bowling Green and New London on the East to Mark Twain Lake and the Mexico Bypass on the West, Funding and COE Section 404 Permits Issuance, Pike, Monroe, Ralls and Audrain Counties, MO, Wait Period Ends: August 19, 2002, Contact: Don Newmann (573) 636-7104.

Amended Notices

EIS No. 020213, DRAFT EIS, FHW, PA, Mon/Fayette Transportation Project, Improvements from PA Route 51 to I-376 in Monroeville and Pittsburg, Funding, U.S. Coast Guard Bridge Permit and COE Section 404 Permit, Allegheny County, PA, Comment Period Ends: September 09, 2002, Contact: James A. Cheatham (717) 221-3461. Revision of FR Notice Published on 05/31/2002: Extending Comment Period From 08/14/2002 to 09/09/2002.

EIS No. 020231, DRAFT EIS, COE, TX, North Padre Island Storm Damage Reduction and Environmental Restoration Project, Construction of a Channel between the Laquna Madre and the Gulf of Mexico across North Padre Island referred to as Packery Channel Project, Nueces County, IL, Comment Period Ends: July 29, 2002, Contact: Sam J. Watson (409) 766-3946. Revision of FR Notice Published on 06/14/2002: Correction to Contact Person Phone Number.

EIS No. 020278, FINAL EIS, FHW, NY, NYS Route 17, Horseheads Project, Reconstruction from RM 17-6205-1069 to RM 14-6201-3040, Town and Village of Horseheads (P.I.N. 6239.00) Chemung County, NY, Wait Period Ends: August 05, 2002, Contact: Robert E. Arnold (518) 431-4127. Revision of FR Notice published on 07/05/2002: Correction to Document Status from Draft to Final.

EIS No. 020282, FINAL EIS, COE, NJ, Meadowlands Mills Project, Construction of a Mixed-Use Commercial Development, Permit Application Number 95-07-440-RS, US Army COE Section 10 and 404 Permit Issuance, Boroughs of Carlstadt and Monnachie, Township of South Hackensack, Bergen County, NJ, Wait Period Ends: August 19, 2002, Contact: Steven Schumach (212) 264-0183. Revision of FR notice published on 07/05/2002: Correction Comment Period from 8/5/2002 to 8/19/2002.

Dated: July 9, 2002.
Joseph C. Montgomery,
Director, NEPA, Office of Federal Activities.

[FR Doc. 02-17537 Filed 7-11-02; 8:45 am]

BILLING CODE 6560-50-P